NATIONAL ARCHIVES AND RECORDS ADMINISTRATION

Information Security Oversight Office

[NARA-2019-030]

State, Local, Tribal, and Private Sector Policy Advisory Committee (SLTPS-PAC); Meeting

AGENCY: National Archives and Records Administration (NARA).

ACTION: Notice of Federal Advisory Committee meeting.

SUMMARY: We are announcing an upcoming meeting of the State, Local, Tribal, and Private Sector Policy Advisory Committee (SLTPS-PAC).

DATES: The meeting will be on July 24, 2019, from 10:00 a.m. to 12:00 p.m.

ADDRESSES: National Archives and Records Administration, 700 Pennsylvania Avenue NW, Jefferson Room, Washington, DC 20408.

FOR FURTHER INFORMATION CONTACT: Robert J. Skwirot, Senior Program Analyst, ISOO, by mail at National Archives Building, 700 Pennsylvania Avenue NW, Washington, DC 20408, by telephone at (202) 357-5398, or by email at robert.skwirot@nara.gov. Contact ISOO at ISOO@nara.gov.

SUPPLEMENTARY INFORMATION: This meeting will be open to the public, in accordance with the Federal Advisory Committee Act (5 U.S.C. app 2) and implementing regulations. However, due to space limitations and access procedures, you must submit the name and telephone number of individuals planning to attend to the Information Security Oversight Office (ISOO) no later than Wednesday, July 17, 2019. ISOO will provide additional instructions for accessing the meeting's location.

Miranda J. Andreacchio,
Committee Management Officer.

[FR Doc. 2019-13321 Filed 6-21-19; 8:45 am]

BILLING CODE 7515-01-P